DEPARTMENT OF ENERGY

Federal Energy Regulatory Commission

[Docket No. CP04-1-000]

ANR Pipeline Company; Notice of Filing

October 9, 2003.

Take notice that on October 1, 2003, ANR Pipeline Company (ANR), 9 E Greenway Plaza, Houston, Texas 77046, filed with the Federal Energy Regulatory Commission (Commission) pursuant to Section 7(C) of the Natural Gas Act, and Subpart A of the Commission's Regulations its application to install an additional 6,000 horsepower of electric powered compression at its Weyauwega Compressor Station in Waupaca County, Wisconsin, referred to as its North Leg Project. ANR states that its North Leg Project will effectively replace ANR's reliance on upstream Viking Gas Transmission Company (Viking) capacity for flowing volumes of 107,217 dekatherms per day at ANR's Marshfield receipt point. ANR states that its North Leg Project involves the construction of electric compression only, with no pipeline looping proposed, and is consistent with its settlement with Viking in Docket No. CP00-391-000.¹ ANR estimates that the cost of the North Leg Project to be approximately $13,519,310. ANR also seeks approval of pro-forma FERC Gas Tariff sheets concerning its proposed Electric Power Cost tracking mechanism, all as more fully described in the application. The filing is available for review at the Commission in the Public Reference Room or may be viewed on the Commission's website at http://www.ferc.gov using the “FERRIS” link. Enter the docket number excluding the last three digits in the docket number field to access the document. For assistance, please contact FERC Online Support at FERCOnlineSupport@ferc.gov or toll free at (866) 208-3676, or for TTY, contact (202) 502-8659.

¹ ANR Pipeline Company, 95 FERC ¶ 63,019 (2001).

Any questions regarding the application may be directed to Kevin P. Erwin, Senior Counsel, ANR Pipeline Company, Nine E. Greenway Plaza, Suite 1866, Houston, Texas, 77048, at (832) 676-5501, with fax at (832) 676-2251.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the instructions on the Commission's website under the “e-Filing” link. The Commission strongly encourages intervenors to file electronically.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervener status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

Comment Date: October 30, 2003.

Magalie R. Salas,
Secretary.

[FR Doc. E3-00255 Filed 11-14-01; 8:45 am]

BILLING CODE 6717-01-P